AGENCY FOR INTERNATIONAL DEVELOPMENT

Agency Information Collection Activities; Submission to the Office of Management and Budget for Review and Approval; Comment Request; Submission for Review

AGENCY: U.S. Agency for International Development.

ACTION: 30-Day notice

SUMMARY: U.S. Agency for International Development (USAID), as part of its continuing effort to reduce paperwork and respondent burden, invites the general public and other Federal agencies to take this opportunity to comment on the following new information collection, as required by the Paperwork Reduction Act of 1995. Comments are requested concerning whether the proposed collection of information is necessary for sustaining USAID-funded programming beyond USAID funding; the accuracy of USAID's estimate of the burden of the proposed collection of information; ways to enhance the quality, utility, and clarity of the information to be collected; and ways to minimize the burden of the collection of information on respondents.

DATES: All comments should be submitted within 30 calendar days from the date of this publication.

ADDRESSES: Written comments and recommendations for the proposed information collection should be sent within 30 days of publication of this notice to www.reginfo.gov/public/do/PRAMain. Find this particular information collection by selecting “Currently under 30-day Review—Open for Public Comments” or by using the search function. Interested persons are invited to solicit additional information from Elena Walls, USAID, Bureau of Development, Democracy, and Innovation, Center for Education, at ewalls@usaid.gov.

FOR FURTHER INFORMATION CONTACT: Elena Walls, USAID, Bureau of Development, Democracy, and Innovation, Center for Education, at ewalls@usaid.gov or 202-468-3810.

SUPPLEMENTARY INFORMATION: Agency Form No.: N/A, new data collection.

Title: Forms for reporting on contributions to USAID-funded education activities by host country governments, non-governmental entities and implementing partners, and details of implementation.

Analysis: Data from these forms are required for measuring costs of USAID-funded education interventions. The results of the cost analysis will be used to inform the scale and sustainability of USAID-funded interventions, for improving planning, budgeting and management of activities, and for reporting to Congress and other stakeholders.

OMB Number: N/A, new data collection.

Agency Form No.: N/A, new data collection.

Agency: U.S. Agency for International Development.

Federal Register: This information was previously published in the Federal Register on July 18, 2019 allowing for a 60-day public comment period, under Document #2019-15228.

Affected Public: Organizations that are awarded USAID awards (contracts and cooperative agreements) to implement education activities.

Number of Respondents: 120.

Frequency: Once per year.

Estimated number of hours: 960 hours.

Christine Pagen,
Deputy Director, Center for Education, Bureau for Development, Democracy and Innovation, U.S. Agency for International Development.

[FR Doc. 2021-20975 Filed 9-27-21; 8:45 am]

BILLING CODE P